DEPARTMENT OF DEFENSE

Department of the Army

Notice of Intent To Grant Exclusive Patent License to Hydronergy, Inc., Oak Park, IL

AGENCY: Department of the Army, DoD.

ACTION: Notice of intent.

SUMMARY: The Department of the Army hereby gives notice of its intent to grant to Hydronergy, Inc.; a company having its principal place of business at 137 North Oak Park Avenue, Suite 215 4615, Oak Park, IL 60301, an exclusive license.

DATES: Written objections must be filed not later than 15 days following publication of this announcement.

ADDRESSES: Send written objections to U.S. Army Combat Capabilities Development Command Army Research Laboratory, Partnerships Support Office, FCDD-RLB-SS/Jason Craley, Building 4402, 6468 Integrity Ct., Aberdeen Proving Ground, MD 21005-5425 or email to jason.c.craley.civ@army.mil.

FOR FURTHER INFORMATION CONTACT: Jason Craley, (410) 306-1275, email: jason.c.craley.civ@army.mil.

SUPPLEMENTARY INFORMATION: The Department of the Army plans to grant an exclusive license to Hydronergy, Inc. in the following fields of use related to:

• Heat generation whether it be from diverting the unavoidable energy (heat) induced by the chemical reaction of nanogalvanized powder mixed with water, or burning hydrogen produced by mixing nanogalvanized powder with water. The generated heat will be used in buildings, homes, warehouses, swimming pools and industry needs such as heating, washing, cooking, sterilizing, drying, preheating of boiler feed water.

pertaining to the following;

—“Aluminum Based Nanogalvanic Compositions Useful for Generating Hydrogen Gas and Low Temperature Processing Thereof”, ARL 17-33, US Patent No. 11,198,923, Issue Date: 12/14/2021, US Patent Application No. 16/042,632, Filing Date: 07/23/2018, U.S. Publication No. 2019/0024216, Publication Date: 01/24/2019.

The prospective exclusive license may be granted unless within fifteen (15) days from the date of this published notice, the U.S. Army Combat Capabilities Development Command Army Research Laboratory receives written objections including evidence and argument that establish that the grant of the license would not be consistent with the requirements of 35 U.S.C. 209(e) and 37 CFR 404.7(a)(1)(i). Competing applications completed and received by the U.S. Army Combat Capabilities Development Command Army Research Laboratory within fifteen (15) days from the date of this published notice will also be treated as objections to the grant of the contemplated exclusive license.

Objections submitted in response to this notice will not be made available to the public for inspection and, to the extent permitted by law, will not be released under the Freedom of Information Act, 5 U.S.C. 552.

James W. Satterwhite, Jr.,
Army Federal Register Liaison Officer.

[FR Doc. 2023-11056 Filed 5-23-23; 8:45 am]

BILLING CODE 3711-02-P